DEPARTMENT OF ENERGY

Federal Energy Regulatory Commission

[Docket No. CP20-16-000]

Portland Natural Gas Transmission System; Notice of Schedule for Environmental Review of the Westbrook Xpress Project

On November 18, 2019, Portland Natural Gas Transmission System (PNGTS) filed an application in Docket No. CP20-16-000 requesting a Certificate of Public Convenience and Necessity pursuant to section 7(c) of the Natural Gas Act to construct and operate certain natural gas pipeline facilities. The proposed project is known as the Westbrook XPress Project (Project), and would provide about 131 million standard cubic feet of natural gas per day to New England using TransCanada PipeLines Limited's Canadian Mainline and Trans-Quebec & Maritimes Pipeline to access North American supply basins.

On December 2, 2019, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—April 2, 2020

90-day Federal Authorization Decision Deadline—July 1, 2020

If a schedule change becomes necessary, additional notice will be provided so that the relevant agencies are kept informed of the Project's progress.

Project Description

The Westbrook XPress Project would consist of the following facilities, all of which are proposed in Cumberland County, Maine:

• Installation of one new 15,900 horsepower natural gas fired turbine compressor unit and appurtenant facilities in a greenfield expansion area approximately 1,500 feet southwest of the currently developed Westbrook Compressor Station;

• about 1,500 feet of 30-inch-diameter suction and discharge lines to connect the greenfield expansion area to the existing station; and

• modifications at the existing Westbrook Metering and Regulating Station 30006, including replacement of existing piping, replacement of existing filter separator, building modifications, and appurtenant facilities.

Background

On December 12, 2019, the Commission issued a Notice of Intent to Prepare an Environmental Assessment for the Proposed Westbrook XPress Project and Request for Comments on Environmental Issues (NOI). The NOI was sent to affected landowners; federal, state, and local government agencies; elected officials; environmental and public interest groups; Native American tribes; other interested parties; and local libraries and newspapers. All substantive comments received in response to the NOI will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the “eLibrary” link, select “General Search” from the eLibrary menu, enter the selected date range and “Docket Number” excluding the last three digits (i.e., CP20-16), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: January 8, 2020.
Kimberly D. Bose,
Secretary.

[FR Doc. 2020-00626 Filed 1-15-20; 8:45 am]

BILLING CODE 6717-01-P